DEPARTMENT OF LABOR

Employment and Training Administration

[TA-W-58,225]

New Riverside Ochre Company; Cartersville, GA; Notice of Termination of Investigation

Pursuant to Section 221 of the Trade Act of 1974, as amended, an investigation was initiated on October 28, 2005 in response to a petition filed by a company official on behalf of workers of New Riverside Ochre Company, Cartersville, Georgia.

The petitioner has requested that the petition be withdrawn. Consequently, the investigation has been terminated.

Signed at Washington, DC, this 9th day of November, 2005.
Linda G. Poole,
Certifying Officer, Division of Trade Adjustment Assistance.

[FR Doc. E5-6464 Filed 11-22-05; 8:45 am]

BILLING CODE 4510-30-P